DEPARTMENT OF JUSTICE

Antitrust Division

Notice Pursuant to the National Cooperative Research Production Act of 1993—Open Axis Group, Inc.

Notice is hereby given that, on December 27, 2010, pursuant to Section 6(a) of the National Cooperative Research and Production Act of 1993, 15 U.S.C. 4301 et seq. (“the Act”), Open Axis Group, Inc. (“Open Axis”) has filed written notifications simultaneously with the Attorney General and the Federal Trade Commission disclosing changes in its membership. The notifications were filed for the purpose of extending the Act's provisions limiting the recovery of antitrust plaintiffs to actual damages under specified circumstances. Specifically, Tripit, Inc., San Francisco, CA; LUTE, Zug, SWITZERLAND; Traveldata Inc., Shibua-ku, Tokyo, JAPAN; Frontier Airlines, Indianapolis, IN; Navitaire, Minneapolis, MN; Travelguard Worldwide, Inc., Jersey City, NJ; SkyScanner LTD, Edinburgh, UNITED KINGDOM; Motocol LLC, Greenwood Village, CO; and Flightview, Allston, MA, have been added as parties to this venture. Also, Mobiata, Ann Arbor, MI, has withdrawn as a party to this venture.

No other changes have been made in either the membership or planned activity of the group research project. Membership in this group research project remains open, and Open Axis intends to file additional written notifications disclosing all changes in membership.

On October 6, 2010, Open Axis filed its original notification pursuant to Section 6(a) of the Act. The Department of Justice published a notice in the Federal Register pursuant to Section 6(b) of the Act on November 16, 2010 (75 FR 70031).

Patricia A. Brink,
Director of Civil Enforcement, Antitrust Division.

[FR Doc. 2011-2073 Filed 1-31-11; 8:45 am]

BILLING CODE 4410-11-M